DEPARTMENT OF AGRICULTURE

Animal and Plant Health Inspection Service

[Docket No. APHIS-2015-0043]

Notice of Request for Extension of Approval of an Information Collection; Citrus Greening and Asian Citrus Psyllid; Quarantine and Interstate Movement Regulations

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations to prevent the spread of citrus greening and its vector, Asian citrus psyllid, to noninfested areas of United States.

DATES: We will consider all comments that we receive on or before August 17, 2015.

ADDRESSES: You may submit comments by either of the following methods:

• Federal eRulemaking Portal: Go to http://www.regulations.gov/#!docketDetail;D=APHIS-2015-0043.

• Postal Mail/Commercial Delivery: Send your comment to Docket No. APHIS-2015-0043, Regulatory Analysis and Development, PPD, APHIS, Station 3A-03.8, 4700 River Road Unit 118, Riverdale, MD 20737-1238.

Supporting documents and any comments we receive on this docket may be viewed at http://www.regulations.gov/#!docketDetail;D=APHIS-2015-0043 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the interstate movement of regulated articles to prevent the spread of citrus greening and its vector, Asian citrus psyllid, contact Dr. Mary Palm, National Coordinator for Citrus Pest Programs, PHP, PPQ, APHIS, 4700 River Road Unit 52, Riverdale, MD 20737; (301) 851-2069. For copies of more detailed information on the information collection, contact Ms. Kimberly Hardy, APHIS' Information Collection Coordinator, at (301) 851-2727.

SUPPLEMENTARY INFORMATION:

Title: Citrus Greening and Asian Citrus Psyllid; Quarantine and Interstate Movement Regulations.

OMB Control Number: 0579-0363.

Type of Request: Extension of approval of an information collection.

Abstract: The Plant Protection Act (PPA, 7 U.S.C. 7701 et seq.) authorizes the Secretary of the U.S. Department of Agriculture (USDA), either independently or in cooperation with States, to carry out operations or measures to detect, eradicate, suppress, control, prevent, or retard the spread of plant pests and diseases that are new to or not widely distributed within the United States. Under the Act, the Secretary may also issue regulations requiring plants and plant products moved in interstate commerce to be subject to remedial measures determined necessary to prevent the spread of the pest or disease, or requiring the objects to be accompanied by a permit issued by the Secretary prior to movement. The USDA's Animal and Plant Health Inspection Service (APHIS) administers the regulations to implement the PPA.

Citrus greening, also known as Huanglongbing disease of citrus, is considered to be one of the most serious citrus diseases in the world. Citrus greening is a bacterial disease that attacks the vascular system of host plants. This bacterial pathogen can be transmitted by grafting and, under laboratory conditions, by parasitic plants. The pathogen can also be transmitted by two insect vectors in the family Psyllidae, one of which is Diaphorina citri Kuwayama, the Asian citrus psyllid (ACP). ACP can also cause economic damage to citrus in groves and nurseries by direct feeding. Both adults and nymphs feed on young foliage, depleting the sap and causing galling or curling of leaves. High populations feeding on a citrus shoot can kill the growing tip.

Under the regulations in “Subpart—Citrus Greening and Asian Citrus Psyllid” (7 CFR 301.76 through 301.76-11), APHIS restricts the interstate movement of regulated articles from quarantined areas to control the artificial spread of citrus greening and ACP to noninfested areas of the United States. The regulations contain requirements that involve information collection activities, including a compliance agreement, limited permit, Federal certificate, recordkeeping, labeling statement, the application of a tag to the consignee's waybill, 72-hour inspection notification, and cancellation of certificates, permits, and compliance agreements.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.12 hours per response.

Respondents: Commercial nurseries/operations in U.S. States or U.S. Territories quarantined for citrus greening or ACP.

Estimated annual number of respondents: 621.

Estimated annual number of responses per respondent: 23.

Estimated annual number of responses: 13,882.

Estimated total annual burden on respondents: 1,785 hours. (Due to averaging, the total annual burden hours may not equal the product of the annual number of responses multiplied by the reporting burden per response.)

All responses to this notice will be summarized and included in the request for OMB approval. All comments will also become a matter of public record.

Done in Washington, DC, this 12th day of June 2015.
Kevin Shea,
Administrator, Animal and Plant Health Inspection Service.

[FR Doc. 2015-15005 Filed 6-17-15; 8:45 am]

BILLING CODE 3410-34-P